DEPARTMENT OF COMMERCE

National Oceanic and Atmospheric Administration

50 CFR Part 660

[Docket No. 151117999-6440-02]

RIN 0648-BF56

Fisheries Off West Coast States; West Coast Salmon Fisheries; 2016 Management Measures; Correction

AGENCY: National Marine Fisheries Service (NMFS), National Oceanic and Atmospheric Administration (NOAA), Commerce.

ACTION: Final rule; correction.

SUMMARY: On May 2, 2016, NMFS published a final rule to implement fishery management measures for the 2016 ocean salmon fisheries off the coast of the states of Washington, Oregon, and California under the jurisdiction of the Pacific Fisheries Management Council (Council). This correction changes the minimum size table for the commercial salmon fishery from Point Arena to Pigeon Point, CA, and the description of the tribal area and boundaries for the treaty Indian fisheries for the Quileute Nation; these were incorrect in the original rule.

DATES: This correction is effective June 6, 2016, until the effective date of the 2017 management measures, which will be published in the Federal Register.

FOR FURTHER INFORMATION CONTACT: Peggy Mundy at 206-526-4323.

SUPPLEMENTARY INFORMATION:

Need for Correction

On May 2, 2016, NMFS published a final rule (81 FR 26157) that implemented the fishery management measures for the 2016 ocean salmon fisheries off the coasts of the states of Washington, Oregon, and California under the jurisdiction of the Council. Subsequent to filing this rule with the Office of the Federal Register, two typographical errors were noted.

On page 26164, the table under the subheading “B. Minimum Size,” for the area “Point Arena to Pigeon Point,” two time periods are listed that incorrectly exclude the date September 1. This is inconsistent with the management measures described in the related text within the rule. Additionally, these size restrictions are intended to be consistent with the commercial salmon fisheries managed by the State of California. This rule corrects the table to be consistent with the management measures described in the text of the final rule, and as adopted and recommended by the Council and as implemented by the State of California.

On page 26169, in the first column, under the subheading “C.1. Tribe and Area Boundaries,” in the fourth paragraph, an incorrect latitude was provided for the Queets River. This latitude is intended to be consistent with usual and accustomed fishing areas established by a recent court ruling (United States v. Washington, 2:09-sp-00001-RSM (W.D. Wash. Sept. 3, 2015)). This latitude is listed correctly elsewhere in the rule, and should be consistent throughout the rule to avoid confusion. This rule corrects the latitude for the Queets River to be consistent with the rest of the management measures and the currently defined usual and accustomed fishing area for the Quileute Nation.

The states, tribes, and Pacific Fishery Management Council staff have been notified of these corrections. These corrections have been made in the fishery booklet provided to the public by NMFS West Coast Region. Therefore, these corrections are anticipated by the public and the regulatory agencies and their implementation will cause no harm.

Correction

In the Federal Register of May 2, 2016 (81 FR 26157), make the following corrections:

1. On page 26164, under the subheading “B. Minimum Size,” the table for minimum size limits in the 2016 commercial salmon fisheries is corrected in its entirety to read as follows:

Area (when open) | Chinook: Total length | Chinook: Head-off | Coho: Total length | Coho: Head-off | Pink
North of Cape Falcon, OR | 28.0 | 21.5 |  |  | None.
Cape Falcon to OR/CA border | 28.0 | 21.5 |  |  | None.
OR/CA border to Humboldt South Jetty | 28.0 | 21.5 |  |  | None.
Horse Mountain to Point Arena | 27.0 | 20.5 |  |  | None.
Point Arena to Pigeon Point:
Prior to September 1 | 27.0 | 20.5 |  |  | None.
September 1 and thereafter | 26.0 | 19.5 |  |  | None.
Pigeon Point to U.S./Mexico border | 27.0 | 20.5 |  |  | None.
Metric equivalents: 28.0 in = 71.1 cm, 27.0 in = 68.6 cm, 26.0 in = 66.0 cm, 21.5 in = 54.6 cm, 20.5 in = 52.1 cm, 19.5 in = 49.5 cm, 16.0 in = 40.6 cm, and 12.0 in = 30.5 cm.

2. On page 26169, first column, under the subheading “C.1. Tribe and Area Boundaries,” the fourth paragraph is corrected to read as follows:

QUILEUTE—That portion of the FMA between 48°10′00″ N. lat. (Cape Alava.) and 47°31′42″ N. lat. (Queets River) and east of 125°44′00″ W. long.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors in regulations for a fishery that opened on May 1, and immediate notice of the error and correction is necessary to prevent confusion among participants in the fishery that could result from the existing conflict between state and tribal regulations and the final rule. This error was noticed by NMFS on April 29, 2016, after the final rule had been filed with the Office of the Federal Register. To effectively correct the error, this correction must be done as soon as possible, as the tribal fisheries commenced May 1. There is not sufficient time for a notice and comment rulemaking as the fishery has begun. In addition, this action makes only minor changes that the states and tribes are already aware of.

This correction will not affect the results of analyses conducted to support management decisions in the salmon fishery nor change the total catch of salmon. No change in operating practices in the fishery is required. For the same reasons, the AA has determined that good cause exists to waive the 30-day delay in effectiveness pursuant to 5 U.S.C. 553(d). Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Authority: 16 U.S.C. 773-773k; 1801 et seq.

Dated: May 23, 2016.
Samuel D. Rauch III,
Deputy Assistant Administrator for Regulatory Programs, National Marine Fisheries Service.

[FR Doc. 2016-13233 Filed 6-3-16; 8:45 am]

BILLING CODE 3510-22-P